TENNESSEE VALLEY AUTHORITY

Meeting of the Regional Resource Stewardship Council

AGENCY: Tennessee Valley Authority (TVA).

ACTION: Notice of meeting.

SUMMARY: The Regional Resource Stewardship Council (Regional Council) will hold a meeting to consider various matters. Notice of this meeting is given under the Federal Advisory Committee Act, 5 U.S.C. App. 2, (FACA).

The meeting agenda includes the following briefings:

1. Feedback from TVA on the Recommendations Submitted to the TVA Board of Directors

2. Report from the Integrated River Management Subcommittee on Ocoee Water Releases

3. Recommendations/Report from the Water Quality Subcommittee on 26a and Aquatic Biodiversity

4. Public comments

5. Preliminary Results of the LOUD Proposal

6. Federal Funding Potential

7. Reservoir Operations Study

8. Discussion of Recommendations

9. Planning for Future Meetings

It is the Regional Council's practice to provide an opportunity for members of the public to make oral public comments at its meetings. Public comment session is scheduled from 4-5 p.m. Central time on Thursday, October 25. Members of the public who wish to make oral public comments may do so during the Public comment portion of the agenda. Up to one hour will be allotted for the Public comments with participation available on a first-come, first-served basis. Speakers addressing the Council are requested to limit their remarks to no more than 5 minutes. Persons wishing to speak register at the door and are then called on by the Council Chair during the public comment period. Handout materials should be limited to one printed page. Written comments are also invited and may be mailed to the Regional Resource Stewardship Council, Tennessee Valley Authority, 400 West Summit Hill Drive, WT 11A, Knoxville, Tennessee 37902.

DATES: The meeting will begin on Thursday, October 25, from 1 p.m. to 5 p.m. Central time. Public comments are scheduled for October 25 beginning at 4 p.m. On Friday, October 26, the meeting will resume at 8:00 a.m. Central time and adjourn at 11:30 a.m.

ADDRESSES: The meeting will be held in Lake Barkley State Resort Park, located at 3500 State Park Road, Cadiz, Kentucky 42211-0790, and will be open to the public. Anyone needing special access or accommodations should let the contact below know at least a week in advance.

FOR FURTHER INFORMATION CONTACT: Sandra L. Hill, 400 West Summit Hill Drive, WT 11A, Knoxville, Tennessee 37902, (865) 632-2333.

Dated: September 28, 2001.
Ronald J. Williams,
Acting Executive Vice President, River System Operations & Environment, Tennessee Valley Authority.

[FR Doc. 01-25179 Filed 10-4-01; 8:45 am]

BILLING CODE 8120-08-M